Proclamation 8952 of March 29, 2013

National Sexual Assault Awareness and Prevention Month, 2013

By the President of the United States of America

A Proclamation

In the last 20 years, our Nation has made meaningful progress toward addressing sexual assault. Where victims were once left without recourse, laws have opened a path to safety and justice; where a culture of fear once kept violence hidden, survivors are more empowered to speak out and get help. But even today, too many women, men, and children suffer alone or in silence, burdened by shame or unsure anyone will listen. This month, we recommit to changing that tragic reality by stopping sexual assault before it starts and ensuring victims get the support they need.

Sexual violence is an affront to human dignity and a crime no matter where it occurs. While rape and sexual assault affect all communities, those at the greatest risk are children, teens, and young women. Nearly one in five women will be a victim of sexual assault during college. For some groups, the rates of violence are even higher—Native American women are more than twice as likely to experience sexual assault as the general population. Moreover, we know rape and sexual assault are consistently underreported, and that the physical and emotional trauma they leave behind can last for years.

With Vice President Joe Biden's leadership, we have made preventing sexual violence and supporting survivors a top priority. Earlier this month, I was proud to sign the Violence Against Women Reauthorization Act, which renews and strengthens the law that first made it possible for our country to address sexual assault in a comprehensive way. The Act preserves critical services like rape crisis centers, upholds protections for immigrant victims, gives State and tribal law enforcement better tools to investigate cases of rape, and breaks down barriers that keep lesbian, gay, bisexual, and transgender victims from getting help. It also expands funding for sexual assault nurse examiner programs and sexual assault response teams, helping States deliver justice for survivors and hold offenders accountable.

Just as we keep fighting sexual assault in our neighborhoods, we must also recommit to ending it in our military—because no one serving our country should be at risk of assault by a fellow service member. Where this crime does take place, it cannot be tolerated; victims must have access to support, and offenders must face the consequences of their actions. Members of our Armed Forces and their families can learn more about the resources available to them at 1-877-995-5247 and SafeHelpline.org.

All Americans can play a role in changing the culture that enables sexual violence. Each of us can take action by lifting up survivors we know and breaking the silence surrounding rape and sexual assault. To get involved, visit www.WhiteHouse.gov/1is2many.

Together, our Nation is moving forward in the fight against sexual assault. This month, let us keep working to prevent violence in every corner of America, and let us rededicate ourselves to giving survivors the bright future they deserve.

NOW, THEREFORE, I, BARACK OBAMA, President of the United States of America, by virtue of the authority vested in me by the Constitution and the laws of the United States, do hereby proclaim April 2013 as National Sexual Assault Awareness and Prevention Month. I urge all Americans to support survivors of sexual assault and work together to prevent these crimes in their communities.

IN WITNESS WHEREOF, I have hereunto set my hand this twenty-ninth day of March, in the year of our Lord two thousand thirteen, and of the Independence of the United States of America the two hundred and thirty-seventh.

[FR Doc. 2013-07924

Filed 4-3-13; 8:45 am]

Billing code 3295-F3